NUCLEAR REGULATORY COMMISSION

[Docket No. 50-458; NRC-2017-0141]

Entergy Operations, Inc., River Bend Station, Unit 1

AGENCY: Nuclear Regulatory Commission.

ACTION: Final supplemental environmental impact statement; issuance.

SUMMARY: The U.S. Nuclear Regulatory Commission (NRC) is issuing a final plant-specific Supplement 58 to the Generic Environmental Impact Statement (GEIS) for License Renewal of Nuclear Plants, NUREG-1437, regarding the renewal of operating license NPF-47 for an additional 20 years of operation for River Bend Station, Unit 1 (RBS). The RBS is located in West Feliciana Parish, Louisiana.

DATES: The final supplemental environmental impact statement referenced in this document is available on November 14, 2018.

ADDRESSES: Please refer to Docket ID NRC-2017-0141 when contacting the NRC about the availability of information regarding this document. You may obtain publicly-available information related to this document using any of the following methods:

• Federal Rulemaking website: Go to http://www.regulations.gov and search for Docket ID NRC-2017-0141. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The final supplemental environmental impact statement is available in ADAMS under Accession No. ML18310A072.

• NRC's PDR: You may examine and purchase copies of public documents at the NRC's PDR, Room O1-F21, One White Flint North, 11555 Rockville Pike, Rockville, Maryland 20852.

• Library: The final supplemental environmental impact statement is available for public inspection at the West Feliciana Parish Library, 5114 Burnett Road, St. Francisville, Louisiana 70775.

FOR FURTHER INFORMATION CONTACT: David Drucker, Office of Nuclear Reactor Regulation, U.S. Nuclear Regulatory Commission, Washington, DC 20555-0001; telephone: 301-415-6223; email: David.Drucker@nrc.gov.

SUPPLEMENTARY INFORMATION:

I. Background

In accordance with § 51.118 of title 10 of the Code of Federal Regulations, the NRC is issuing the final Supplement 58 to the GEIS regarding the renewal of Entergy Operations, Inc. operating license NPF-47 for an additional 20 years of operation for RBS. The draft Supplement 58 to the GEIS was noticed by the NRC in the Federal Register on June 6, 2018 (83 FR 26310), and noticed by the Environmental Protection Agency on June 8, 2018 (83 FR 26665). The public comment period on the draft Supplement 58 to the GEIS ended on July 23, 2018, and the comments received are addressed in the final Supplement 58 to the GEIS.

II. Discussion

As discussed in Chapter 5 of the final Supplement 58 to the GEIS, the NRC determined that the adverse environmental impacts of license renewal for RBS are not so great that preserving the option of license renewal for energy-planning decisionmakers would be unreasonable.

This recommendation is based on: (1) The analysis and findings in the GEIS; (2) information provided in the environmental report and other documents submitted by Entergy Operations, Inc.; (3) consultation with Federal, State, local, and Tribal agencies; (4) the NRC staff's independent environmental review; and (5) the NRC staff's consideration of public comments received during the scoping process and on the draft Supplement 58 to the GEIS.

Dated at Rockville, Maryland, on November 8, 2018.
For the Nuclear Regulatory Commission.
Eric R. Oesterle,
Chief, License Renewal Projects Branch, Division of Materials and License Renewal, Office of Nuclear Reactor Regulation.

[FR Doc. 2018-24813 Filed 11-13-18; 8:45 am]

BILLING CODE 7590-01-P